SOCIAL SECURITY ADMINISTRATION

[Docket No. SSA 2018-0031]

Privacy Act of 1974; Matching Program

AGENCY: Social Security Administration (SSA).

ACTION: Notice of a new matching program.

SUMMARY: In accordance with the provisions of the Privacy Act, as amended, this notice announces new matching program with the Department of Defense, Defense Manpower Data Center (DoD/DMDC).

This computer matching agreement (agreement) sets forth the terms, conditions, and safeguards under which DoD/DMDC will disclose to SSA data to verify information provided to SSA by applicants, beneficiaries, and recipients of Supplemental Security Income (SSI) payments and Special Veterans Benefits (SVB). The SSI and SVB recipient/beneficiary provides information about eligibility/entitlement factors (e.g., income, reosurces, living arrangements). SSA obtains additional information, as necessary, before making any determinations of eligibility/payment or entitlement/benefit amounts or adjustments thereto. Military retirement payments to SSI recipients and SVB beneficiaries include retired members, or their survivors, of the Uniformed Services, i.e., Army; Navy; Air Force; Marine Corps; Coast Guard; and the Commissioned Corps of the National Oceanic and Atmospheric Administration. SSA will accomplish this task by computer matching with DoD/DMDC.

DATES: The deadline to submit comments on the proposed matching program is 30 days from the date of publication of this notice in the Federal Register. The matching program will be applicable on March 15, 2019, or once a minimum of 30 days after publication of this notice has elapsed, whichever is later. The matching program will be in effect for a period of 18 months.

ADDRESSES: Interested parties may comment on this notice by either telefaxing to (410) 966-0869, writing to Mary Ann Zimmerman, Acting Executive Director, Office of Privacy and Disclosure, Office of the General Counsel, Social Security Administration, G-401 WHR, 6401 Security Boulevard, Baltimore, MD 21235-6401, or emailing Mary.Ann.Zimmerman@ssa.gov. All comments received will be available for public inspection by contacting Ms. Zimmerman at this street address.

FOR FURTHER INFORMATION CONTACT: Interested parties may submit general questions about the matching program to Mary Ann Zimmerman, Acting Executive Director, Office of Privacy and Disclosure, Office of the General Counsel, by any of the means shown above.

SUPPLEMENTARY INFORMATION: None.

Mary Zimmerman,
Acting Executive Director, Office of Privacy and Disclosure, Office of the General Counsel.

Participating Agencies: SSA and DoD/DMDC.

Authority for Conducting the Matching Program: The legal authority for this match is sections 806(b) and 1631(e)(1)(B) and (f) of the Social Security Act (Act) (42 U.S.C. 1006(b) and 1383(e)(1)(B) and (f)). SSA's legal authority to disclose data to DoD/DMDC is section 1106(a) of the Act (42 U.S.C. 1306(a)) and section (b)(3) of the Privacy Act (5 U.S.C. 552a(b)(3)).

Purpose(s): This matching program establishes the conditions under which DoD/DMDC will disclose to SSA data to verify information provided to SSA by applicants, beneficiaries, and recipients of Supplemental Security Income (SSI) payments and Special Veterans Benefits (SVB). The SSI and SVB recipient/beneficiary provides information about eligibility/entitlement factors (e.g. income, resources, living arrangements). SSA obtains additional information, as necessary, before making any determinations of eligibility/payment or entitlement/benefit amounts or adjustments thereto. Military retirement payments to SSI recipients and SVB beneficiaries include retired members, or their survivors, of the Uniformed Services, i.e., Army; Navy; Air Force; Marine Corps; Coast Guard; and the Commissioned Corps of the National Oceanic and Atmospheric Administration. SSA will accomplish this task by computer matching with DoD/DMDC.

Categories of Individuals: The individuals whose information is involved in this matching program are those SSI recipients and SVB beneficiaries consisting solely of retired members, or their survivors, of the Uniformed Services, i.e., Army; Navy; Air Force; Marine Corps; Coast Guard; and the Commissioned Corps of the National Oceanic and Atmospheric Administration.

Categories of Records: SSA's finder file will contain approximately 10 million records extracted from the Supplemental Security Income Record and Special Veterans Benefits file. The DoD/DMDC response file contains approximately 800 records concerning retired Uniformed Service members or their survivors entitled to Survivor Benefits.

System(s) of Records: SSA will disclose records from the following systems of records: “Supplemental Security Income Record and Special Veterans Benefits,” 60-0103, last fully published at 71 Federal Register (FR) 1830 (January 11, 2006), and amended at 72 FR 69723 (December 10, 2007), 83 FR 31250-31251 (July 3, 2018), and 83 FR 54969 November 1, 2018). DoD/DMDC will disclose records from DMDC 01, entitled “Defense Manpower Data Center Data Base,” last published at 76 FR 72391 (November 23, 2011), pursuant to routine use 5.b.

[FR Doc. 2019-07659 Filed 4-16-19; 8:45 am]

BILLING CODE 4191-02-P